DEPARTMENT OF HEALTH AND HUMAN SERVICES

National Institutes of Health

National Institute of Allergy and Infectious Diseases; Amended Notice of Meeting

Notice is hereby given of a change in the meeting of the Microbiology, Infectious Diseases and AIDS Initial Review Group Acquired Immunodeficiency Syndrome Research Review Committee AIDSRPC, December 3-4, 2019 from 10:00 a.m. to 5.00 p.m., National Institutes of Health, 5601 Fishers Lane, Rockville, MD 20852 which was published in the Federal Register on February 19, 2019, 84 FR 4834.

This meeting notice is amended to change the meeting date from December 3-4, 2019 to December 12, 2019 at the National Institutes of Health, 5601 Fishers Lane, Rockville, MD 20852. The meeting is open to the public.

Dated: November 19, 2019.
Tyeshia M. Roberson,
Program Analyst, Office of Federal Advisory Committee Policy.

[FR Doc. 2019-25480 Filed 11-22-19; 8:45 am]

BILLING CODE 4140-01-P